DEPARTMENT OF COMMERCE

Foreign-Trade Zones Board

[Docket 46-2007]

Request for Comments on Uniform Treatment (and Related Issues) in Local Access to Foreign-Trade Zone Procedures—Extension of Comment Period

On September 21, 2007, the Foreign-Trade Zones (FTZ) Board published in the Federal Register a notice to “gather information and various parties' views related to potential conflicts of interest in local access to FTZ procedures, including regarding practices that parties believe may be inconsistent with the FTZ Act or the FTZ Board's regulations” (72 FR 53989-53990, 9/21/2007). Based on a request from the National Association of Foreign-Trade Zones, the specific period for submission of comments is being extended. Therefore, while interested parties are always encouraged to provide comments on the operation of the FTZ program, we are requesting comments on this matter by January 31, 2008 (extended from the original date of November 30, 2007), so that the Board may proceed with its examination. Questions relating to the submission of comments should be directed to Pierre Duy or Andrew McGilvray at (202) 482-2862.

Dated: October 29, 2007.
Andrew McGilvray,
Executive Secretary.

[FR Doc. E7-21720 Filed 11-2-07; 8:45 am]

BILLING CODE 3510-DS-S